DEPARTMENT OF TRANSPORTATION

Office of the Secretary

Notice of Applications for Certificates of Public Convenience and Necessity and Foreign Air Carrier Permits Filed Under Subpart B (Formerly Subpart Q) During the Week Ending April 8, 2005

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-20889.

Date Filed: April 4, 2005.

Due Date for Answers, Conforming Applications, or Motion to Modify Scope: April 25, 2005.

Description: Application of Continental Airlines, Inc., requesting a certificate of public convenience and necessity to provide scheduled foreign air transportation of persons, property, and mail on daily New York/Newark-Shanghai flights beginning on or about March 25, 2007, an allocation of seven weekly U.S.-China Combination frequencies in 2007, and authority to integrate this authority with its other certificate and exemption authority.

Docket Number: OST-2005-20924.

Date Filed: April 5, 2005.

Due Date for Answers, Conforming Applications, or Motion to Modify Scope: April 26, 2005.

Description: Application of Cargo 360, Inc., requesting a certificate of public convenience and necessity to engage in scheduled interstate air transportation of property and mail, including complementary authority to engage in interstate and foreign charter air transportation of property and mail. Cargo 360 is a start-up all-cargo carrier that intends to engage in world-wide scheduled and charter operations, including provision of wet-lease services to U.S. and foreign airlines similar to those provided by various U.S. all-cargo carriers.

Docket Number: OST-2005-20925.

Date Filed: April 5, 2005.

Due Date for Answers, Conforming Applications, or Motion to Modify Scope: April 26, 2005.

Description: Application of Cargo 360, Inc., requesting a certificate of public convenience and necessity to engage in scheduled foreign air transportation of property and mail from points behind the United States via the United States and intermediate points to a point or points in the Republic of Korea and beyond. Cargo 360 is a start-up all-cargo carrier that intends to engage in world-wide scheduled and charter operations, including provision of wet-lease services to U.S. and foreign airlines similar to those provided by various U.S. all-cargo carriers.

Renee V. Wright,
Acting Program Manager, Docket Operations, Alternate Federal Register Liaison.

[FR Doc. 05-8085 Filed 4-21-05; 8:45 am]

BILLING CODE 4910-62-P